DEPARTMENT OF COMMERCE

National Oceanic and Atmospheric Administration

RIN: 0648-XG50

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Science and Statistical Committee (SSC), its Ad Hoc Excessive Shares Committee, the Mid-Atlantic section of the Joint Monkfish Committee, its Protected Resources Committee, its Research Set-Aside (RSA) Committee, its Executive Committee, its Surfclam/Ocean Quahog Committee, its Bycatch Committee, and its Demersal Committee, will hold public meetings.

DATES: The meetings will be held on Monday, April 7, 2008 through Thursday, April 10, 2008. See SUPPLEMENTARY INFORMATION for specific dates and times.

ADDRESSES: The meetings will be held at the Sheraton Annapolis Hotel, 173 Jennifer Road, Annapolis, MD 21401; telephone: (410) 266-3131.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION:

Monday, April 7, 2008

10 a.m. until 5 p.m.—The Science and Statistical Committee (SSC) will meet.

Tuesday, April 8, 2008

9 a.m. until 11 a.m.—The Ad Hoc Excessive Shares Committee will meet.

11 a.m. until 12 p.m.—The Mid-Atlantic section of the Joint Monkfish Committee will meet.

1 p.m until 3 p.m.—The Protected Resources Committee will meet.

3 p.m. until 5:30 p.m.—The Research Set-Aside (RSA) Committee will meet.

Wednesday, April 9, 2008

8 a.m. until 9:30 a.m.—The Executive Committee will meet.

9:30 a.m. until 10 a.m.—The Surfclam/Ocean Quahog Committee will meet.

10 a.m. until 12 p.m.—The Bycatch Committee will meet.

1:15 p.m. until 3:15 p.m.—The Council will convene and hold its Business Session.

3:15 p.m. until 4 p.m.—The Council will receive a presentation regarding New England Council's Habitat Areas of Particular Concern (HAPC) Initiative.

4 p.m. until 5 p.m.—Monkfish Framework 6 will be reviewed and discussed for the purpose of adoption.

Thursday, April 10, 2008

8 a.m. until 9:30 a.m.—The Demersal Committee will meet.

9:30 a.m. until 2:30 p.m.—The Council will convene to review and discuss Amendment 1 to Tilefish for purposes of adoption.

2:30 p.m. until 4 p.m.—The Council will receive Committee Reports and consider Continuing and New Business.

Agenda items by day for the Council's Committees and the Council itself are:

Monday, April 7—An orientation session for the Science and Statistical Committee will be held to review and discuss the roles of the Council, the SSC, the Monitoring Committees, NMFS, and the Council staff; review the Council's current specification setting procedures and related timing issues; review Annual Catch Limits (ACL) and Accountability Measures (AM) requirements established by the Magnuson-Steven Reauthorization Act (MSRA); discuss possible alternative specification procedures; review Terms of Reference (TOR) for the SSC regarding the annual specification setting process; evaluate and modify current SSC composition by discipline/expertise; review SSC membership appointment protocol and the need to expand the Committee; and, discuss quality assurance/quality control measures for SSC appointment.

Tuesday, April 8—The Ad Hoc Excessive Shares Committee will review and discuss the meaning/interpretation of the Magnuson-Stevens Act (MSA) National Standard 4, Section 303A(c)(5)(D), Section 303A(c)(9) and develop ideas on and practical application of excessive shares concept. The Mid-Atlantic section of the Joint Monkfish Committee will review and discuss proposed measures in Framework 6, select a preferred alternative, and develop a Committee recommendation for Council consideration and action. The Protected Resources Committee will review recent Harbor Porpoise Take Reduction Team activities and receive a report on NMFS' Protected Resources Public Outreach Program in the Mid-Atlantic region. The RSA Committee will review a draft policy document regarding the Council's RSA program's operations, review the status of the Mid-Atlantic Council's RSA projects/awards, discuss the need for RSA programmatic reviews, and consider establishing a Mid-Atlantic Research Consortium.

Wednesday, April 9—The Executive Committee will review discussions and outcomes from the Northeast Regional Coordinating Council (NRCC) meeting, and review, discuss, and endorse staff's proposed approach to satisfying MSA Section 303(a)(15). The Surfclam/Ocean Quahog Committee will receive an update on commitments made at the most recent Amendment 14 Fishery Management Action Team (FMAT) meeting. The Bycatch Committee will discuss measures to reduce bycatch mortality in recreational fisheries and review the status of the Council's Bycatch educational outreach initiative. Following these Committee meetings, there will be an awards presentation to recognize the recipient of the 2007 Ricks E Savage Award. The Council will then convene to receive various reports, receive a presentation regarding the New England Council's HAPC Initiative, and review and approve Monkfish Framework 6 for Secretarial submission.

Thursday, April 10—The Demersal Committee will review the purpose and need of the current list of potential actions to be addressed by Amendment 15. The Council will then review preferences for management alternatives based on public comments received for Tilefish Amendment 1, discuss and adopt preferred alternatives to be included in the Final Environmental Impact Statement (FEIS) supporting Tilefish Amendment 1, and approve Amendment 1 and associated FEIS for Secretarial submission. The Council will then receive Committee Reports, and consider any continuing or new business.

Although non-emergency issues not contained in this agenda may come before the Council for discussion, these issues may not be the subject of formal Council action during these meetings. Council action will be restricted to those issues specifically listed in this notice and any issues arising after publication of this notice that require emergency action under Section 305(c) of the Magnuson-Stevens Act, provided the public has been notified of the Council's intent t take final actions to address such emergencies.

Special Accommodations

These meetings are physically accessible to people with disabilities. Requests for sign language interpretation or other auxiliary aid should be directed to M. Jan Bryan, (302) 674-2331 ext 18, at least 5 days prior to the meeting date.

Dated: March 18, 2008.
Tracey L. Thompson,
Acting Director, Office of Sustainable Fisheries, National Marine Fisheries Service.

[FR Doc. E8-5773 Filed 3-20-08; 8:45 am]

BILLING CODE 3510-22-S